DEPARTMENT OF TRANSPORTATION

Federal Aviation Administration

14 CFR Part 39

[Docket No. FAA-2017-0343; Directorate Identifier 2017-CE-005-AD]

RIN 2120-AA64

Airworthiness Directives; DG Flugzeugbau GmbH Gliders

AGENCY: Federal Aviation Administration (FAA), Department of Transportation (DOT).

ACTION: Notice of proposed rulemaking (NPRM).

SUMMARY: We propose to adopt a new airworthiness directive (AD) for all DG Flugzeugbau GmbH Models DG-400, DG-500M, DG-500MB, DG-800A, and DG-800B gliders. This proposed AD results from mandatory continuing airworthiness information (MCAI) originated by an aviation authority of another country to identify and correct an unsafe condition on an aviation product. The MCAI describes the unsafe condition as a manufacturing defect in certain textile fabric covered fuel hoses, which could cause the fuel hose to fail. We are issuing this proposed AD to require actions to address the unsafe condition on these products.

DATES: We must receive comments on this proposed AD by June 5, 2017.

ADDRESSES: You may send comments by any of the following methods:

• Federal eRulemaking Portal: Go to http://www.regulations.gov. Follow the instructions for submitting comments.

• Fax: (202) 493-2251.

• Mail: U.S. Department of Transportation, Docket Operations,M-30, West Building Ground Floor, Room W12-140, 1200 New Jersey Avenue SE., Washington, DC 20590.

• Hand Delivery: U.S. Department of Transportation, Docket Operations,M-30, West Building Ground Floor, Room W12-140, 1200 New Jersey Avenue SE., Washington, DC 20590, between 9 a.m. and 5 p.m., Monday through Friday, except Federal holidays.

For service information identified in this proposed AD, contact DG Flugzeugbau GmbH, Otto-Lilienthal Weg 2, D-76646 Bruchsal, Germany; telephone: +49 (0)7251 3202-0; email: info@dg-flugzeugbau.de; Internet: http://www.dg-flugzeugbau.de/en/?noredirect=en_US. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0343; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2017-0343; Directorate Identifier 2017-CE-005-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2016-0259, dated December 21, 2016 (referred to after this as “the MCAI”), to correct an unsafe condition for the specified products. The MCAI states:

During service and annual inspection, DG found that some fuel hoses with textile fabric covering, installed from the beginning of the year 2015, had become weak or untight with time. The suspected root cause for this premature degradation is a manufacturing defect of a certain batch of fuel hoses.

This condition, if not detected and corrected, may lead to kinking of the fuel hoses, possibly resulting in a reduced fuel supply and consequent partial or total loss of available power.

To address this unsafe condition, DG-Flugzeugbau published Technical Note TN 800-44, 500-10, DG-SS-02 providing inspection and replacement instructions.

For the reason described above, this AD requires inspection and replacement of the affected fuel hoses.

You may examine the MCAI on the Internet at http://www.regulations.gov by searching for and locating Docket No. FAA-2017-0343.

Related Service Information Under 1 CFR Part 51

DG Flugzeugbau GmbH has issued Technical note No. 800-44, 500-10, DG-SS-02, are all dated November 9, 2016, and co-published as one document. The service information describes procedures for inspecting and replacing the fuel hoses. This service information is reasonably available because the interested parties have access to it through their normal course of business or by the means identified in the ADDRESSES section of this NPRM.

FAA's Determination and Requirements of This Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 59 products of U.S. registry. We also estimate that it would take about 2 work-hours per product to comply with each inspection required by this proposed AD. The average labor rate is $85 per work-hour.

Based on these figures, we estimate the inspection cost of this proposed AD on U.S. operators to be $10,030, or $170 per product.

In addition, we estimate that each replacement action required by this proposed AD would take about 8 work-hours and require parts costing $500. Based on these figures, we estimate the replacement cost of this proposed AD on U.S. operators to be $69,620, or $1,180 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

DG Flugzeugbau GmbH: Docket No. FAA-2017-0343; Directorate Identifier 2017-CE-005-AD.

(a) Comments Due Date

We must receive comments by June 5, 2017.

(b) Affected ADs

None.

(c) Applicability

This AD applies to certain DG Flugzeugbau GmbH Models DG-400, DG-500M, DG-500MB, DG-800A, and DG-800B gliders, all serial numbers, that:

(1) Have textile fabric covered fuel hoses installed in the fuselage; and

(2) are certificated in any category.

Note 1 to paragraph (c) of this AD: Metal fabric covered fuel hoses installed in the engine area are not affected by this AD.

(d) Subject

Air Transport Association of America (ATA) Code 28: Fuel.

(e) Reason

This AD was prompted by mandatory continuing airworthiness information (MCAI) originated by an aviation authority of another country to identify and correct an unsafe condition on an aviation product. The MCAI describes the unsafe condition as a manufacturing defect in certain textile fabric covered fuel hoses, which could cause the fuel hose to fail. We are issuing this AD to prevent failure of the fuel hose, which could cause reduced fuel supply and result in partial or total loss of power.

(f) Actions and Compliance

Unless already done, do the following actions:

(1) Within the next 30 days after the effective date of this AD, inspect all textile fabric covered fuel hoses located in the fuselage following Instructions 1. of DG Flugzeugbau GmbH Technical note (TN) No. 800-44, 500-10, DG-SS-02, dated November 9, 2016.

Note 2 to paragraph (f)(1) through (6) of this AD: DG Flugzeugbau GmbH Technical note (TN) No. 800-44, DG Flugzeugbau GmbH Technical note (TN) No. 500-10, and DG Flugzeugbau GmbH Technical note (TN) No. DG-SS-02 are all dated November 9, 2016, and co-published as one document.

(2) If any kinking or wet fabric covering is found during the inspection required in paragraph (f)(1) of this AD, within the next 14 days after the inspection, replace all textile fabric covered fuel hoses located in the fuselage following Instructions 2. of DG Flugzeugbau GmbH TN No. 800-44, 500-10, DG-SS-02, dated November 9, 2016.

(3) If no kinking or wet fabric covering is found during the inspection required in paragraph (f)(1) of this AD, within the next 12 months after the effective date of this AD, replace all textile fabric covered fuel hoses located in the fuselage following Instructions 2. of DG Flugzeugbau GmbH TN No. 800-44, 500-10, DG-SS-02, dated November 9, 2016.

(4) Within 12 months after doing the replacements required in paragraph (f)(2) or (f)(3) of this AD, as applicable, and repetitively thereafter at intervals not to exceed 12 months, inspect all fuel hoses in the fuselage for any signs of wear, fissures, kinks, lack of tight fit, or leaks. For this inspection, the ignition switch must be turned on to run the electric fuel pump to demonstrate an operating fuel pressure, as specified in Instructions 4. of DG Flugzeugbau GmbH TN No. 800-44, 500-10, DG-SS-02, dated November 9, 2016.

(5) If any signs of wear, fissures, kinks, lack of tight fit, or leaks are found during any inspection required in paragraph (f)(4) of this AD, replace the defective fuel hose in the fuselage following Instructions 2. of DG Flugzeugbau GmbH TN No. 800-44, 500-10, DG-SS-02, dated November 9, 2016. Continue with the repetitive inspections as specified in paragraph (f)(4) of this AD.

(6) If no signs of wear, fissures, kinks, lack of tight fit, or leaks are found during any inspection required in paragraph (f)(4) of this AD, at intervals not to exceed 10 years, replace the fuel hoses in the fuselage with new fuel hoses following Instructions 2. of DG Flugzeugbau GmbH TN No. 800-44, 500-10, DG-SS-02, dated November 9, 2016.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2016-0259, dated December 21, 2016, for related information. You may examine the MCAI on the Internet at http://www.regulations.gov by searching for and locating Docket No. FAA-2017-0343. For service information related to this AD, contact DG Flugzeugbau GmbH, Otto-Lilienthal Weg 2, D-76646 Bruchsal, Germany; telephone: +49 (0)7251 3202-0; email: info@dg-flugzeugbau.de; Internet: http://www.dg-flugzeugbau.de/en/?noredirect=en_US. You may review this referenced service information at the FAA, Small Airplane Directorate, 901 Locust, Kansas City, Missouri 64106. For information on the availability of this material at the FAA, call (816) 329-4148.

Issued in Kansas City, Missouri, on April 13, 2017.
Brian Yanez,
Acting Manager, Small Airplane Directorate, Aircraft Certification Service.

[FR Doc. 2017-07937 Filed 4-20-17; 8:45 am]

BILLING CODE 4910-13-P